DEPARTMENT OF COMMERCE

National Oceanic and Atmospheric Administration

[RTID 0648-XA538]

Meeting of the Marine Fisheries Advisory Committee

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will hear a presentation and consider approval of the final report of the Phase 2 work of the Columbia Basin Partnership Task Force and other topics including aquaculture and the Executive Order Promoting American Seafood competitiveness and Economic Growth, marine heatwaves, FY2021 budget, COVID-19 impacts on agency operations, and work of the Recreational Fisheries Subcommittee.

DATES: The meeting will be October 20 and 21, 2020 from 12:30-5 p.m., Eastern Time.

ADDRESSES: Meeting is by webinar and teleconference.

FOR FURTHER INFORMATION CONTACT: Heidi Lovett; NOAA Fisheries Office of Policy; (301) 427-8034; email: Heidi.Lovett@noaa.gov.

SUPPLEMENTARY INFORMATION: Notice is hereby given of a meeting of MAFAC. The MAFAC was established by the Secretary of Commerce (Secretary), and, since 1971, advises the Secretary on all living marine resource matters that are the responsibility of the Department of Commerce. The MAFAC charter and summaries of prior MAFAC meetings are located online at https://www.fisheries.noaa.gov/topic/partners#marine-fisheries-advisory-committee-.

Matters To Be Considered

This meeting time and agenda are subject to change. The meeting is convened to hear presentations and consider approval of the final report of the Phase 2 work of the Columbia Basin Partnership Task Force. MAFAC members will also receive presentations and discuss work of the Recreational Fisheries Subcommittee on better identification of anglers in offshore waters; the FY2021 budget and impacts of COVID-19 on agency operations; Aquaculture Program updates and the Executive Order Promoting American Seafood Competitiveness and Economic Growth; and marine heatwaves and science program activities. MAFAC will discuss various administrative and organizational matters, and meetings of subcommittees will convene.

Time and Date

The meeting is scheduled for October 20 and 21, 2020 from 12:30—5 p.m., Eastern Time by webinar and conference call. Access information for the public will be posted at https://www.fisheries.noaa.gov/national/partners/marine-fisheries-advisory-committee-meeting-materials-and-summaries by October 6, 2020.

(Authority: Federal Advisory Committee Act, 5 U.S.C. App. 2)

Dated: September 30, 2020.
Jennifer L. Lukens,
Federal Program Officer, Marine Fisheries Advisory Committee, National Marine Fisheries Service.

[FR Doc. 2020-21948 Filed 10-2-20; 8:45 am]

BILLING CODE 3510-22-P